DEPARTMENT OF TRANSPORTATION

Federal Aviation Administration

14 CFR Part 39

[Docket No. 2001-NM-306-AD]

RIN 2120-AA64

Airworthiness Directives; Aerospatiale Model ATR42-200, -300, -320, and -500 Series Airplanes; and Model ATR72 Series Airplanes

AGENCY: Federal Aviation Administration, DOT.

ACTION: Notice of proposed rulemaking (NPRM).

SUMMARY: This document proposes the supersedure of an existing airworthiness directive (AD), applicable to all Aerospatiale Model ATR42-200, -300, -320, and -500 series airplanes; and all Model ATR72 series airplanes; that currently requires revising the Airplane Flight Manual (AFM) to modify procedures for calculating takeoff performance when Type II or IV de-icing or anti-icing fluids have been used. This action would require revising the existing AFM revision to correct the performance values for Model ATR-72 series airplanes and to provide an additional method of compliance for all airplanes. This proposal is prompted by issuance of mandatory continuing airworthiness information by a civil airworthiness authority. The actions specified by the proposed AD are intended to ensure that the flightcrew is advised of the potential effects of Type II or IV de-icing or anti-icing fluids on the airplane's performance during takeoff, and to ensure that the flightcrew is advised of the revised performance calculations for takeoff to address these effects.

DATES: Comments must be received by March 26, 2003.

ADDRESSES: Submit comments in triplicate to the Federal Aviation Administration (FAA), Transport Airplane Directorate, ANM-114, Attention: Rules Docket No. 2001-NM-306-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-306-AD” in the subject line and need not be submitted in triplicate. Comments sent via the Internet as attached electronic files must be formatted in Microsoft Word 97 for Windows or ASCII text.

FOR FURTHER INFORMATION CONTACT: Todd Thompson, Aerospace Engineer, International Branch, ANM-116, Transport Airplane Directorate, 1601 Lind Avenue SW., Renton, Washington 98055-4056; telephone (425) 227-1175; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-306-AD.” The postcard will be date stamped and returned to the commenter.

Availability of NPRMs

Any person may obtain a copy of this NPRM by submitting a request to the FAA, Transport Airplane Directorate, ANM-114, Attention: Rules Docket No. 2001-NM-306-AD, 1601 Lind Avenue, SW., Renton, Washington 98055-4056.

Discussion

On August 15, 2001, the FAA issued AD 2001-16-10, amendment 39-12379 (66 FR 44032, August 22, 2001), applicable to all Aerospatiale Model ATR42-200, -300, -320, and -500 series airplanes; and all Model ATR72 series airplanes; to require revising the Airplane Flight Manual (AFM) to modify procedures for calculating takeoff performance when Type II or IV de-icing or anti-icing fluids have been used. That action was prompted by reports that use of these fluids may result in an increase in the pitch forces necessary to rotate the airplane during takeoff. This condition could result in a delayed takeoff or late aborted takeoff. The requirements of that AD are intended to ensure that the flightcrew is advised of the potential effects of Type II or IV de-icing or anti-icing fluids on the airplane's performance during takeoff, and to ensure that the flightcrew is advised of the revised performance calculations for takeoff to address these effects.

Actions Since Issuance of Previous Rule

Since the issuance of AD 2001-16-10, the Direction Générale de l'Aviation Civile (DGAC), which is the airworthiness authority for France, advises that the existing AFM revision includes incorrect percentages for increasing takeoff run (TOR), takeoff distance (TOD), and accelerate-stop distance (ASD) on Model ATR72 series airplanes. The DGAC had required an increase in TOR, TOD, and ASD in French airworthiness directives 2000-449-082(B) and 2000-448-053(B), both dated October 31, 2000. (The identical requirements to revise the AFM were also specified in the FAA's AD 2001-16-10.)

Subsequently, the DGAC has reviewed flight simulations performed by the manufacturer of Model ATR42-200, -300, -320, and -500 series airplanes, and Model ATR72 series airplanes, and consequently approved an additional compliance method. The additional compliance method allows an “assisted rotation at takeoff.” This is a procedure executed by the captain and the non-flying pilot when the flightcrew encounters increased pitch control forces, leading to difficulties in rotating. However, this method can only be applied if the flightcrew has been properly trained. The DGAC has determined that the procedure for assisted rotation at takeoff provides a level of safety equivalent to the requirements to revise the AFM specified in previously issued French airworthiness directives 2000-449-082(B) and 2000-448-053(B).

The DGAC has issued airworthiness directives 2000-448-053(B) R2 and 2000-449-082(B) R2, both dated September 19, 2001, in order to assure the continued airworthiness of these airplanes in France. These French airworthiness directives correct the incorrect percentages for TOR, TOD, and ASD, and specify the additional compliance method described previously.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would supersede AD 2001-16-10 to continue to require revising the AFM to modify procedures for calculating takeoff performance when Type II or IV de-icing or anti-icing fluids have been used. The proposed AD also would require revising the existing AFM revision to correct the performance values (for Model ATR-72 series airplanes) and to provide an optional method of compliance (for all affected models).

Cost Impact

There are approximately 159 airplanes of U.S. registry that would be affected by this proposed AD.

The AFM revision currently required by AD 2001-16-10 takes approximately 1 work hour per airplane to accomplish, at an average labor rate of $60 per work hour. Based on these figures, the cost impact of the currently required revision of the AFM on U.S. operators is estimated to be $9,540, or $60 per airplane.

The new AFM revision that is proposed in this AD action would take approximately 1 work hour per airplane to accomplish, at an average labor rate of $60 per work hour. Based on these figures, the cost impact of the new proposed requirements of this AD on U.S. operators is estimated to be $9,540, or $60 per airplane.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12379 (66 FR 44032, August 22, 2001), and by adding a new airworthiness directive (AD), to read as follows:

Aerospatiale: Docket 2001-NM-306-AD. Supersedes AD 2001-16-10, Amendment 39-12379.

Applicability: All Model ATR42-200, -300, -320, and -500 series airplanes; and all Model ATR72 series airplanes; certificated in any category.

Compliance: Required as indicated, unless accomplished previously.

To ensure that the flightcrew is advised of the potential effects of Type II or IV de-icing or anti-icing fluids on the airplane's performance during takeoff, and to ensure that the flightcrew is advised of the revised performance calculations for takeoff to address these effects, accomplish the following:

Restatement of Requirements of AD 2001-16-10

Revision of the Airplane Flight Manual (AFM)

(a) Within 15 days after September 26, 2001 (the effective date of AD 2001-16-10, amendment 39-12379), revise the Appendices and Supplements chapter of the FAA-approved AFM by including either the following manufacturer's Appendix “Takeoff after use of Fluid Type II or IV” or a copy of this AD in the AFM.

“Takeoff After Use of Fluid Type II or IV

This appendix applies only to aircraft de-iced or anti-iced before takeoff, using fluid Type II or IV.

These types of fluid may lead to an increase in control forces necessary to rotate, and then to a modification of takeoff performance.

Therefore, this flight manual must be modified as follows:

1. General

The general information in Section 1 is applicable.

2. Limitations

The limitations in Section 2 are applicable.

3. Normal Procedures

The normal procedures in Section 3 are applicable.

4. Emergency Procedures

The emergency procedures in Section 4 are applicable.

5. Procedures Following Failures

The procedures following failures in Section 5 are applicable.

6. Performances

The performances in Section 6 for dry runways and in Section 7.03 for non-dry runways (advisory materials) are applicable with the addition of the following for takeoff computations:

• Determine VR for the lowest available V2,

• Assume V1=VR,

• Increase TOR, TOD, ASD by 20%.

7. Appendices and Supplements

Data of Section 7 are applicable by adding what follows:

For the dispatch cases:

• Apply takeoff penalties due to the system failure,

• Then apply takeoff penalties due to the use of fluids Type II or IV.

Dispatch is not authorized in the following cases:

• Ferry flight with pitch elevators disconnected,

• Takeoff with flaps retracted.”

New Requirements of This AD

AFM Revision: Model ATR 42-200, -300, -320, and -500 Series Airplanes

(b) For Model ATR42-200, -300, -320, and -500 series airplanes: Within 15 days after the effective date of this AD, revise the Appendices and Supplements chapter of the AFM by removing the AFM revision required by paragraph (a) of this AD and inserting the following procedures in the AFM (this may be accomplished by inserting a copy of this AD into the AFM):

“Takeoff After Use of Fluid Type II or IV

This appendix applies only to aircraft de-iced or anti-iced before takeoff, using fluid Type II or IV.

These types of fluid may lead to an increase in control forces necessary to rotate, and then to a modification of takeoff performance.

Therefore, this flight manual must be modified as follows:

Compliance Method Number 1

1. General

The general information in Section 1 is applicable.

2. Limitations

The limitations in Section 2 are applicable.

3. Normal Procedures

The normal procedures in Section 3 are applicable.

4. Emergency Procedures

The emergency procedures in Section 4 are applicable.

5. Procedures Following Failures

The procedures following failures in Section 5 are applicable.

6. Performances

The performances in Section 6 for dry runways and in Section 7.03 for non-dry runways (advisory materials) are applicable with the addition of the following for takeoff computations:

• Determine VR for the lowest available V2,

• Assume V1=VR,

• Increase TOR, TOD, ASD by 20%.

7. Appendices and Supplements

Data of Section 7 are applicable by adding what follows:

For the dispatch cases:

• Apply takeoff penalties due to the system failure,

• Then apply takeoff penalties due to the use of fluid Type II or IV.

Dispatch is not authorized in the following cases:

• Ferry flight with pitch elevators disconnected,

• Take-off with flaps retracted.

Compliance Method Number 2

Crew Training Required

1. General

The general information in Section 1 is applicable.

2. Limitations

The limitations in Section 2 are applicable.

3. Normal Procedures

The normal procedures in Section 3 are applicable with the addition of the following:

The Captain must be the pilot flying and the pre-takeoff briefing must include the following takeoff procedure (refer to point 5).

4. Emergency Procedures

The emergency procedures in Section 4 are applicable.

5. Procedures Following Failures

The procedures following failures in Section 5 are applicable with the addition of the following:

TAKEOFF SEQUENCE

In case of difficulties to rotate, the Captain (CPT) should request the non-flying pilot's (NFP's) assistance. In that case, on CPT order, NFP pulls the control column until 5 pitch attitude is reached, then NFP releases the controls.

PERFORMANCES

The performances in Section 6 for dry runways and in Section 7.03 for non-dry runways (advisory materials) are applicable with the addition of the following for takeoff computations:

Increase TOD by 70 m for ATR 42-300

Increase TOD by 80 m for ATR-42-400/-500

6. Appendices and Supplements

Data of Section 7 are applicable with the addition of the following:

For the dispatch cases:

• Apply takeoff penalties due to the system failure,

• Then apply takeoff penalties due to the use of fluid Type II or IV.

Dispatch is not authorized in the following cases:

• Ferry flight with pitch elevators disconnected,

• Take-off with flaps retracted.”

AFM Revision: Model ATR 72 Series Airplanes

(c) For Model ATR72 series airplanes: Within 15 days after the effective date of this AD, revise the Appendices and Supplements chapter of the AFM by removing the AFM revision required by paragraph (a) of this AD and inserting the following procedures in the AFM (this may be accomplished by inserting a copy of this AD into the AFM):

“Takeoff After Use of Fluid Type II or IV

This appendix applies only to aircraft de-iced or anti-iced before takeoff, using fluid Type II or IV.

These types of fluid may lead to an increase in control forces necessary to rotate, and then to a modification of takeoff performance.

Therefore, this flight manual must be modified as follows:

Compliance Method Number 1

1. General

The general information in Section 1 is applicable.

2. Limitations

The limitations in Section 2 are applicable.

3. Normal Procedures

The normal procedures in Section 3 are applicable.

4. Emergency Procedures

The emergency procedures in Section 4 are applicable.

5. Procedures Following Failures

The procedures following failures in Section 5 are applicable.

6. Performances

The performances in Section 6 for dry runways and in Section 7.03 for non-dry runways (advisory materials) are applicable with the addition of the following for takeoff computations:

• Determine VR for the lowest available V2,

• Assume V1=VR,

• Increase TOR, TOD, ASD by 25%.

7. Appendices and Supplements

Data of Section 7 are applicable by adding what follows:

For the dispatch cases:

• Apply takeoff penalties due to the system failure,

• Then apply takeoff penalties due to the use of fluid Type II or IV.

Dispatch is not authorized in the following cases:

• Ferry flight with pitch elevators disconnected,

• Take-off with flaps retracted.

Compliance Method Number 2

Crew Training Required

1. General

The general information in Section 1 is applicable.

2. Limitations

The limitations in Section 2 are applicable.

3. Normal Procedures

The normal procedures in Section 3 are applicable with the addition of the following:

The Captain must be the pilot flying and the pre-takeoff briefing must include the following takeoff procedure (refer to point 5).

4. Emergency Procedures

The emergency procedures in Section 4 are applicable.

5. Procedures Following Failures

The procedures following failures in Section 5 are applicable with the addition of the following:

TAKEOFF SEQUENCE

In case of difficulties to rotate, the Captain (CPT) should request the non-flying pilot's (NFP's) assistance. In that case, on CPT order, NFP pulls the control column until 5° pitch attitude is reached, then NFP releases the controls.

PERFORMANCES

The performances in Section 6 for dry runways and in Section 7.03 for non-dry runways (advisory materials) are applicable with the addition of the following for takeoff computations:

Increase TOD by 70 m.

6. Appendices and Supplements

Data of Section 7 are applicable with the addition of the following:

For the dispatch cases:

• Apply takeoff penalties due to the system failure,

• Then apply takeoff penalties due to the use of fluid Type II or IV.

Dispatch is not authorized in the following cases:

• Ferry flight with pitch elevators disconnected,

• Take-off with flaps retracted.”

Alternative Methods of Compliance

(d) An alternative method of compliance or adjustment of the compliance time that provides an acceptable level of safety may be used if approved by the Manager, International Branch, ANM-116, Transport Airplane Directorate, FAA. Operators shall submit their requests through an appropriate FAA Principal Operations Inspector, who may add comments and then send it to the Manager, International Branch, ANM-116.

Note 2: Information concerning the existence of approved alternative methods of compliance with this AD, if any, may be obtained from the International Branch, ANM-116.

Special Flight Permits

(e) Special flight permits may be issued in accordance with sections 21.197 and 21.199 of the Federal Aviation Regulations (14 CFR 21.197 and 21.199) to operate the airplane to a location where the requirements of this AD can be accomplished.

Note 3: The subject of this AD is addressed in French airworthiness directives 2000-448-053(B) R2 and 2000-449-082(B) R2, both dated September 19, 2001.

Issued in Renton, Washington, on February 14, 2003.
Ali Bahrami,
Acting Manager, Transport Airplane Directorate, Aircraft Certification Service.

[FR Doc. 03-4243 Filed 2-21-03; 8:45 am]

BILLING CODE 4910-13-P